DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of January and February 2004.

In order for an affirmative determination to be made and a certification of eligibility to apply for directly-impacted (primary) worker adjustment assistance to be issued, each of the group eligibility requirements of Section 222(a) of the Act must be met.

I. Section (a)(2)(A) all of the following must be satisfied:

A. a significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. a significant number or proportion of the workers in such workers' firm, or an appropriate subdivision of the firm, have become totally or partially separated, or are threatened to become totally or partially separated;

B. there has been a shift in production by such workers' firm or subdivision to a foreign county of articles like or directly competitive with articles which are produced by such firm or subdivision; and

C. One of the following must be satisfied:

1. the country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either—

(A) the workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-53,911; Scripto-Tokai Corp., Rancho Cucamonga, CA

TA-W-53,894; Mediacopy Texas, Inc., including leased workers of Adecco and CK Staffing, a subsidiary of Infodisc, El Paso, TX

TA-W-53,980; Backsplash, White Salmon, WA

TA-W-53,964; Merit Knitting Mills, Glendale, NY

TA-W-53,922; K and R Products, Inc., Santa Cruz, CA

TA-W-53,880; Smurfit-Stone Container Corp., Philadelphia Mill, Philadelphia, PA

TA-W-53,856; Rock-Tenn Co., El Paso Facility, El Paso, TX

TA-W-53,768; Kurtz-Hastings, Inc., Philadelphia, PA

TA-W-53,846; Danly IEM, Cleveland, OH

TA-W-53,895; Flexcon Co., Inc., Spencer, MA

TA-W-53,786; Caratron Industries, Inc., Warren, MI

TA-W-53,896; Hog Slat, Inc., Newton Grove, NC

TA-W-53,849; Smurfit-Stone Container Corp., Seminole Plant, Jacksonville, FL

TA-W-54,007; B&W Corp., d/b/a M&M Industries, Bensenville, IL

TA-W-53,939; Tippins, Inc., Pittsburgh, PA

TA-W-54,012; Perry Judd's, Waterloo, WI

TA-W-53,898; Timken U.S. Corp., formerly known as The Torrington Company, Torrington, CT

TA-W-54,176; Malamute Enterprises, Inc., Fishing Vessel (F/V) Malamute Kid, Homer, AK

TA-W-53,978; Academy Die Casting and Plating Co., Inc., Edison, NJ

TA-W-53,664; Owens-Illinois, Inc., Hayward, CA

TA-W-53,845; Rohn Industries, Inc., Rohn Products Div., Frankfort, IN

TA-W-53,585; Sealed Air Corp., Salem, IL

TA-W-53,973; Warner Electric, Inc., a subsidiary of Colfax Corp., Roscoe, IL

TA-W-53,548; Comet Tools Co., Inc., Injection Molding Department, Pitman, NJ

TA-W-53,734; Arvin Meritor, Franklin Plant, Franklin, IN

TA-W-53,798; Mohican Mills, Inc., Lincolnton, NC

TA-W-53,825; Georgia-Pacific Resins, Inc., Chemical Div., White City, OR

TA-W-53,832; Morrill Motors, Inc., Sneedville Plant, Sneedville, TN

TA-W-53,851; Collins and Aikman, Adrian Operations, Dura Div., Adrian, MI

TA-W-53,702; Snap On Manufacturing Co, Kenosha, WI

TA-W-53,790; Snap-Tite, Inc., Autoclave Engineers Div., Erie, PA

TA-W-53,826 & A; Flex-N-Gate LLC, Warren Stamping Plant 1, Warren, MI and Plant 2, Warren, MI

TA-W-53,834; Snap-On Tools, Inc. Mt. Carmel Plant, Mt. Carmel, IL

The workers firm does not produce an article as required for certification under Section 222 of the Trade Act of 1974.

TA-W-54,175; Andrew Corp., Warren, NJ

TA-W-54,156; Rocky Shoes and Boots, Inc., Engineering Support, Nelsonville, OH

TA-W-54,086; Loislaw.com, Inc., Van Buren, AR

TA-W-53,965; Sangamon, Inc., Taylorsville, IL

TA-W-53,931; SCI Funeral & Cemetery Purchasing Cooperative, Houston, TX

TA-W-53,861; Franklin Mint Co., d/b/a The Franklin Mint, Franklin Center, PA

TA-W-53,918; BMC Software, Inc., Houston, TX

TA-W-53,943; Teletech Holdings, Inc., Uniontown, PA

TA-W-53,820; Riverdeep, Inc., Novato, CA

TA-W-54,074; Earthlink, Inc., Harrisburg, PA

TA-W-54,024; Milford Marketing, Inc., Franklin, MI

TA-W-53,959; Bayer AG, Bayer Polymers, LLC, Research and Development Facility, Pittsburgh, PA

TA-W-54,041 & A; Epson America, Inc., Long Beach, CA and Carson, CA

TA-W-54,057; Agilent Technologies, Automated Test Group (ATG), Customer Team Business Center, Support Agreements Team, Englewood, CO

TA-W-54,080; Accenture LLP, Oaks, PA

TA-W-54,214; Electronic Data Systems Corp., Concord, CA

TA-W-54,113; Dormer Tools, Asheville, NC

TA-W-54,131; Applied Micro Circuits Corp., AMCC Interconnect, Fort Collins, CO

TA-W-54,192; NCR Corp., Teradata Global Support Center, San Diego, CA

TA-W-53,844; Hein Werner Division of Equipment Services, Inc., a subsidiary of Snap-On, Inc., Waukeha, WI

TA-W-53,936; Analytical Survey, Inc., San Antonio, TX

TA-W-54,119; Micro Warehouse, Inc., a subsidiary of Bridgeport Holdings, Inc., Lakewood, NJ

TA-W-53,948; Seagate Technology, LLC, Research and Development Div., Oklahoma City, OK

TA-W-53,961; SimplexGrinnell L.P., d/b/a Tyco Safety Products, Westlake, OH

The investigation revealed that criterion (a)(2)(A)(I.A) (no employment decline) has not been met.

TA-W-54,006; American Safety Razor Co., Verona, VA

TA-W-54,141; Tyco Healthcare Kendall, a subsidiary of Tyco International, LLC, including leased workers at Keena Staffing Co., Argyle, NY

TA-W-53,864; Lu-Mac, Inc., Ford City, PA

TA-W-54,048C; West Point Stevens, Fairfax Facility, Bath Products Div., Valley, AL

The investigation revealed that criteria (a)(2)(A)(I.B) (Sales or production, or both, did not decline) and (a)(2)(A)(II.A) (no employment decline) has not been met.

TA-W-53,669; Interconnect Technologies, a div. of Northrop-Grumman, Springfield, MO

The investigation revealed that criteria (a)(2)(A)(I.B) (Sales or production, or both, did not decline) and (a)(2)(B)(II.B) (has shifted production to a country not under the free trade agreement with U.S.) have not been met.

TA-W-53,954; Sappi Fine Paper, Somerset Operations, a/k/a Hinckley Mill, Skowhegan, ME

TA-W-53,897; Louisiana Pacific Corp., Deer Lodge, MT

The investigation revealed that criteria (a)(2)(A)(I.B) (Sales or production, or both, did not decline) and (a) (2)(B)(II.C) (has shifted production to a foreign country) have not been met.

TA-W-54,039; Ehlert Tool Co., New Berlin, WI

The investigation revealed that criteria (a)(2)(A)(I.C) (increased imports) and (a) (2)(B)(II.C) (has shifted production to a foreign country) have not been met.

TA-W-54,043; Ramseur Interlock Knitting Co., Inc., Ramseur, NC

Affirmative Determinations for Worker Adjustment Assistance

The following certifications have been issued; the date following the company name and location of each determination references the impact date for all workers of such determination.

The following certifications have been issued. The requirements of (a)(2)(A) (increased imports) of Section 222 have been met.

TA-W-53,910; American Standard, Inc., Americas Bath & Kitchen, Tiffin, OH: December 19, 2002.

TA-W-53,644; Hussey Copper Ltd, Kenilworth, NJ: November 20, 2002.

TA-W-54,137; Dan River, Inc., Camellia Plant, Juliette, GA: January 20, 2003.

TA-W-53,953; Cooper Standard Automotive, North American Sealing Systems, Griffin, GA: January 6, 2003.

TA-W-54,026; Central Textiles, Inc., Pickens, SC: January 7, 2003.

TA-W-53,779; National Mills, Inc., Pittsburg, KS:

“All workers engaged in the production of screen-printed tee shirts, who became totally or partially separated from employment on or after December 8, 2002 are eligible for adjustment assistance under Section 223.

TA-W-53,976; Coda Resources, Ltd, formerly Central Notion Company, Inc., Fieldstone Div., Providence, RI: December 31, 2002.

TA-W-53,869; Florida Tile Industries, Lakeland, FL: December 19, 2002.

TA-W-53,806; Bostik Findley, Inc., Clarks Summit, PA: December 1, 2002.

TA-W-53,912; AK Steel, Butler, PA: December 31, 2002. S.A.S.I. Corporation, d/b/a Bridal Originals, Sparta Manufacturing Plant, Sparta, IL: January 8, 2003

TA-W-53,860; Ewing and Webster Investments d/b/a U2 Technology, Inc., Wasilla, AK: December 1, 2002.

TA-W-53,739; Kentucky Derby Hosiery, Plant #5, Mt. Airy, NC: December 1, 2002

TA-W-54,210; Flynt Fabrics, Inc., Graham, NC: August 9, 2003.

TA-W-54,009; Oxford Drapery, Inc., Timmonsville, SC: January 12, 2003.

TA-W-53,876; Schlegel Systems, Inc., a div. of The Unipoly Holding Co., Rochester, NY: December 15, 2002.

TA-W-53,986; Retango West, Inc., Brooklyn, NY: January 6, 2003.

TA-W-53,763; Chipsco, Inc., Meadville, PA: November 18, 2002.

TA-W-53,808; GMJ Wood Products, including leased workers of Nicolet Temporary Services, Kingsford, MI

TA-W-53,883; H&J Leather, Johnstown, NY: December 15, 2002.

TA-W-53,881; Tillotson Rubber Co., Inc. a wholly owned subsidiary of Tillotson Corp., including leased workers of Pomerantz Staffing Services, Agentry Staffing services, and Mercury Temporary Services, Inc., Fall River, MA: December 8, 2002.

TA-W-53,941; Murata Electronics North America, Inc., State College, PA: January 6, 2003.

TA-W-53,714; Facemate Corp., Chicopee, MA: December 1, 2002.

TA-W-53,732; Container Stapling Co., a/k/a ISM Fastening Systems, a wholly owned subsidiary of International Staple and Machine Company, including leased workers of Extra Help, Herrin, IL: December 3, 2002.

TA-W-53,969; Flint River Textiles, Inc., Albany, GA: January 7, 2003.

TA-W-53,971; Bailey Manufacturing Corp., S.J. Bailey and Sons, Inc., Fryeburg, ME: December 22, 2002.

TA-W-53,960; Waukesha Kramer, Inc., Milwaukee, WI: January 7, 2003.

TA-W-53,528; Textron Fastening Systems, Ferndale Fastener Div., Madison Heights, MI: November 11, 2002.

TA-W-53,987; Air Products and Chemicals, Inc., including leased workers of Shaw Maintenance, Inc., Pace, FL: January 12, 2003.

TA-W-53,967; Osram Sylvania, Inc., Materials Div., Warren, PA: December 30, 2002.

TA-W-54,126; American Fast Print Ltd, U.S. Finishing Div., a subsidiary of Atlantex Ltd, Greenville, SC: January 28, 2003.

TA-W-53,968; FMC Corp., Active Oxidants Div., Tonawanda, NY: December 22, 2002.

TA-W-53,966; Wellington Leisure Products, Leesville Synthetic Fibers, Leesville, SC: December 31, 2002.

TA-W-53,982; Bassett Furniture Industries, Inc, Upholstery Div., Hiddenite, Hiddenite, NC

TA-W-53,854 & A; Warnaco Group, Inc., Milford, CT and Stratford, CT: December 18, 2002.

TA-W-53,878 & NVF Company, Yorklyn, DE and Kennett Square, PA: December 16, 2002.

TA-W-54,188; Ispat Inland, Inc., Chicago, IL: February 3, 2003.

TA-W-53,744; Lands' End, Inc., a subsidiary of Sears, Roebuck and Co., Dodgeville Facility, Dodgeville, WI and Elakder Facility, Elakder Facility and West Union Facility, West Union, IA: November 25, 2002.

TA-W-53,870; Hoffman-La Roche, Inc., Chemical Operations Department, Nutley, NJ: December 22, 2002.

TA-W-53,793; Keeler Brass Co., including leased workers of Talent Tree, Inc., Grand Rapids, MI: December 2, 2002.

TA-W-53,863; Meadow River Enterprises, Metal Fabrication Div., Lewisburg, WV: December 15, 2002.

TA-W-53,827; Bridgestone/Firestone Off-Road Tires, Bloomington, IL: September 11, 2003

TA-W-53,906 & Dixie Chips, Inc., Evergreen, AL and Brundidge, AL: December 29, 2002.

TA-W-53,884; S.J. Bailey and Sons, Inc., Carbondale Plant, Carbondale, PA: December 17, 2002.

TA-W-53,915; First Source Furniture Group, Regional Support Center, a subsidiary of Haworth, Inc., Nashville, TN: December 26, 2002.

TA-W-53,926; Shuler Brothers Chip Mill, Opp, AL: December 29, 2002.

TA-W-54,030; Interstate Industries of Mississippi, LLC, Kosciusko, MS: January 15, 2003.

TA-W-54,048 & A & West Point Stevens, Dunson Facility, Bed Products Div., LaGrange, GA, Lanier Facility, Bed Products Div., Valley, AL and Dixie Facility, Bath Products Div., LaGrange, GA: January 15, 2003

The following certifications have been issued. The requirements of (a) (2) (B) (shift in production) of Section 222 have been met.

TA-W-53,270; C & L Manufacturing Co., Hays, NC: October 16, 2002.

TA-W-53,843; Diversified Dynamics Corp., Home Right Div., Blaine, MN: December 17, 2002.

TA-W-53,865; American Standard, Inc., Porcher Div., Chandler, AZ: December 17, 2002.

TA-W-53,974 & A; General Chemical Corp., Delaware Valley Works, Process Additives Div. and Sulfuric Acid Div., Wilmington, DE: January 8, 2003.

TA-W-53,519; Field Container Co. L.P., St. Clair Pakwell Div., Bellwood, IL: November 10, 2002.

TA-W-54,123; Bard Endoscopic Technologies, Mentor, OH: January 27, 2003

TA-W-53,603; Carrier Corp., Syracuse, NY: November 14, 2002.

TA-W-53,873; Olympic West Sportswear, Inc., a div. of Cascade West Sportswear, Inc., Puyallup, WA: December 22, 2002.

TA-W-53,804; Keef Hosiery, Ft. Payne, AL: December 10, 2002.

TA-W-53,823; Real Wood of Virginia, Inc., d/b/a Cooper Wood Products,including leased workers of Ameristaff, Rocky Mount, VA: December 27, 2003.

TA-W-53,769; Textron Fastening Systems, a subsidiary of Textron, Inc., Greensburg, IN: December 9, 2002.

TA-W-53,796; Sandvik Mining and Tunneling, LLC, Bolt, WV: December 12, 2002.

TA-W-53,562; Weyerhaeuser, Longview Fine Paper, Longview, WA: November 13, 2002.

TA-W-53,693; Tyco Electronics Corp., Global Industrial and Commercial Business, General Purpose Relay Business Unit, Guttenberg, IA: November 25, 2002.

TA-W-53,885; NTN-BCA Corp., a wholly owned subsidiary of NTN-USA, Greensburg, IN: December 23, 2002.

TA-W-53,821; Parker Hannifin Corp., Hose Products Div., Green Camp, OH: December 16, 2002.

TA-W-53,857; Parkdale America, LLC, Plant #7, Caroleen, NC: December 12, 2002.

TA-W-53,867; Froedtert Malt Co., Inc., West Plant, Milwaukee, WI: December 19, 2002.

TA-W-53,887; Regal Beloit Corp., Motor Technologies Group, Leeson Electric, Grafton, WI: December 23, 2002.

TA-W-53,925; Avery Dennison, Office Products Group, and leased workers of Adecco, Flowery Branch, GA: December 30, 2002.

TA-W-53,945; Basf Corp., Coatings Div., Belvidere, NJ: January 5, 2003.

TA-W-53,952; Pass & Seymour/Legrand, San Antonio, TX: January 5, 2003.

TA-W-53,760; Parker Hannifin Corp., Composite Sealing Systems Div., Tempe, AZ.

TA-W-53,729; Adhesive Technologies, Inc., Hampton, NH: November 24, 2002.

TA-W-53,601; Paxar-Alkahn, formerly Alkahn Labels, Inc., Pentex Div., Cowpens, SC: November 20, 2002.

TA-W-53,695; Continental Teves, a div. of Continental Automotive Systems North America, a div. of Continental Automotive Systems, a div. of Continental AG, Ashville, NC: November 20, 2002.

TA-W-53,818; Gross National Product, LLC, Elmhurst, NY: December 16, 2002.

TA-W-53,805; Encompass Group, LLC, Clio, AL: December 12, 2002.

TA-W-53,767; Vermilion Rubber Technology, a div. of The Fukoku Corp., Window Coupling and Anti-Vibration Device Lines, Danville, IL: December 1, 2002.

TA-W-53,935; Hiddenite Woodworks, Inc., Hiddenite, NC: December 26, 2002.

TA-W-54,135; Winterquest, LLC, Grand Junction, CO: January 21, 2003.

TA-W-54,010; Tri-Molded Plastics, Inc., a div. of Applied Technical Products, Bay Shore, NY: December 6, 2002.

TA-W-54,050; A.O. Smith, Electrical Products Co., a div. of A.O. Smith Corp., including leased workers of Randstad and Remedy Staffing, LaVergne, TN: Juanry 19, 2003.

TA-W-54,157; Marco Apparel, d/b/a Margrove, Inc., Walnut Grove, MS: February 3, 2003.

TA-W-53,997; Hollister, Inc., Kirksville Manufacturing, Kirksville, MO: January 7, 2003.

TA-W-54,110; Atlantic Metals Corp., d/b/a Natco International, Philadelphia, PA: January 23, 2003.

TA-W-53,807; Permabond International, a div. of National Starch and Chemicals, including leased workers of J&J Temporaries, Bridgewater, NJ: December 15, 2002.

TA-W-53,803; Fliscinkim, Inc., Fort Payne, AL: December 8, 2002.

TA-W-53,930; Medcases, Inc., Philadelphia, PA: December 29, 2002.

TA-W-53,824; J and T Trading Co., Charlotte, NC: December 16, 2002.

TA-W-53,921; Pac-Tec, Inc., d/b/a Ray-O-Lite Pavement Markers and Palm-N-Turn, including leased workers of Diversified Services Group, Heath, OH: December 19, 2002.

TA-W-53,946; Tyco Healthcare Group LP, Ludlow Company LP, Huntington Beach, CA: January 5, 2003.

TA-W-53,944; Universal Lighting Technologies, formerly Magnetek, including leased workers of Ranstad, Madison, AL: December 30, 2002.

TA-W-53,994; Union Tools, Inc., a subsidiary of Acorn Products, Frankfort, NY: January 12, 2003.

TA-W-54,084; Ropak Atlantic, Inc., a subsidiary of Linpac Group Limited, Dayton, NJ: January 16, 2003.

TA-W-54,052; Ellis Hosiery Mills, Inc., including leased workers of Catawba Staffing, Hickory, NC: January 20, 2003.

TA-W-53,983 & A; Archibald Candy Co., West Jackson Plant, Chicago, IL: January 8, 2003.

TA-W-54,124; J.A. Dedouch Co., Oak Park, IL: January 28, 2003.

TA-W-53,958; Motorola, Operations Building, San Jose, CA: October 6, 2002.

TA-W-053,919 & A; Senco Products, Inf., (8485 Broadwell Rd), Cincinnati, OH and (8450 Broadwell Rd), Cincinnati, OH: February 5, 2004.

TA-W-54,063; Texas Instruments, Inc., Make-Leadframe Div., Attleboro, MA: January 16, 2003.

TA-W-54,184 & A; Tropical Sportswear International Corp., Cutting Facility, Tampa, FL and Distribution Center, Tampa, FL: January 15, 2003.

TA-W-54,015 & A; Sanmina-SCI Corp., Personal and Business Computing, Plant 474, including leased workers of Manpower, Durham, NC and Plant 475, including leased workers of Manpower Durham, NC: January 14, 2003.

TA-W-54,054; Lincoln County Manufacturing, Inc., Fayetteville, TN: January 14, 2003.

TA-W-54,218; Phelps Dodge Industries, Inc., Phelps Dodge Magnet Wire Div., El Paso, TX: February 6, 2003.

TA-W-53,957; H. Warshow & Sons, Inc., Tappahannock, VA: January 5, 2003.

TA-W-54,067; Eaton Corp., Powertrain Controls Div., Marshall, MI: January 20, 2003.

TA-W-54,046; Best Manufacturing Group, LLC, Estill, SC: January 15, 2003.

TA-W-53,766; Network Elements, Manufacturing Div., Beaverton, OR: December 9, 2002.

TA-W-53,868; Signage, Inc., Centerville, TN: December 19, 2002.

TA-W-53,981; Marine Accessories Corp., Westland Industries, Tempe, AZ: January 6, 2003.

TA-W-53,975; Weavexx Corp., Farmville Facility, a wholly owned subsidiary of Xerium S.A., Farmville, VA: December 19, 2002.

TA-W-54,036; PolyOne Corp., Engineered Films, Burlington, NJ: January 13, 2003.

The following certification has been issued. The requirement of upstream supplier to a trade certified primary firm has been met.

TA-W-54,044; Temple Inland Forest Products Corp., Building Products Div., Temple Clarion MDF Plant, Shippenville, PA: February 9, 2004.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (1) of Section 246 has not been met. Workers at the firm are 50 years of age or older.

TA-W-53,318; Moll Industries, Austin, TX.

TA-W-53,865; American Standard, Inc., Porcher Div., Chandler, AZ.

TA-W-53,843; Diversified Dynamics Corp., Home Right Div., Blaine, MN.

TA-W-53,270; C & L Manufacturing Co., Hays, NC.

The Department as determined that criterion (3) of Section 246 has not been met. The competitive conditions within the workers' industry is adverse.

TA-W-54,123; Bard Endoscopic Technologies, Mentor, OH.

TA-W-53,519; Field Container Co. L.P., St. Clair Pakwell Div., Bellwood, IL.

The Department has determined that criterion (2) of Section 246 has not been met. Workers at the firm possess skills that are easily transferable.

TA-W-53,910; American Standard, Inc., Americas Bath and Kitchen, Tiffin, OH

TA-W-53,644; Hussey Copper Ltd, Kenilworth, NJ

TA-W-54,137; Dan River, Inc., Camellia Plant, Juliette, GA

TA-W-53,953; Cooper Standard Automotive, North American Sealing Systems, Griffin, GA

TA-W-54,026; Central Textiles, Inc., Pickens, SC

TA-W-53,974 & A; General Chemical Corp., Delaware Valley Works, Process Additives Div., & Sulfuric Acid Div., Wilmington, DE

Since the workers are denied eligibility to apply for TAA, the workers cannot be certified eligible for ATAA.

TA-W-54,113; Dormer Tools, Asheville, NC

TA-W-54,131; Applied Micro Circuits Corp., AMCC Interconnect, Fort Collins, CO

TA-W-54,192; NCR Corp., Teradata Global Support Center, San Diego, CA

TA-W-53,844; Hein Werner Division of Equipment Services, Inc., a subsidiary of Snap-On, Inc., Waukeha, WI

TA-W-53,936; Analytical Survey, Inc., San Antonio, TX

TA-W-54,119; Micro Warehouse, Inc., a subsidiary of Bridgeport Holdings, Inc., Lakewood, NJ

TA-W-53,948; Seagate Technology, LLC, Research and Development Div., Oklahoma City, OK

TA-W-53,961; SimplexGrinnell L.P., d/b/a Tyco Safety Products, Westlake, OH

TA-W-53,834; Snap-On Tools, Inc., Mt. Carmel Plant, Mt. Carmel, IL

TA-W-53,826 & A; Flex-N-Gate LLC, Warren Stamping Plant 1, Warren, MI and Plant 2, Warren, MI

TA-W-53,790; Snap-Tite, Inc., Autoclave Engineers Div., Erie, PA

TA-W-53,702; Snap On Manufacturing Co., Kenosha, WI

TA-W-53,851; Collins and Aikman, Adrian Operations, Dura Div., Adrian, MI

TA-W-53,832; Morrill Motors, Inc., Sneedville, Plant, Sneedville, TN

TA-W-53,825; Georgia-Pacific Resins, Inc., Chemical Div., White City, OR

TA-W-53,798; Mohican Mills, Inc., Lincolnton, NC

TA-W-53,734; Arvin Meritor, Franklin Plant, Franklin, IN

TA-W-53,548; Comet Tools Co., Inc., Injection Molding Department, Pitman, NJ

TA-W-53,973; Warner Electric, Inc., a subsidiary of Colfax Corp., Roscoe, IL

TA-W-53,585; Sealed Air Corp., Salem, IL

TA-W-53,845; Rohn Industries, Inc., Rohn Products Div., Frankfort, IN

TA-W-53,664; Owens-Illinois, Inc., Hayward, CA

TA-W-53,978; Academy Die Casting & Plating Co., Inc., Edison, NJ

TA-W-54,176; Malamute Enterprises, Inc., Fishing Vessel (F/V) Malamute Kid, Homer, AK

TA-W-53,898; Timken U.S. Corp., formerly known as The Torrington Co., Torrington, CT

TA-W-54,012; Perry Judd's, Waterloo, WI

TA-W-53,864; Lu-Mac, Inc., Ford City, PA

TA-W-54,141; Tyco Healthcare Kendall, a subsidiary of Tyco International, LLC, including leased workers at Keena Staffing Co., Argyle, NY

TA-W-54,043; Ramseur Interlock Knitting Co., Inc., Ramseur, NC

TA-W-54,048C; West Point Stevens, Fairfax Facility, Bath Products Div., Valley, AL

Affirmative Determinations for Alternative Trade Adjustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-53,779; National Mills, Inc., Pittsburg, KS: “All workers engaged in employment related to the production of screen-printed tee shirts, who became totally or partially separated from employment on or after December 8, 2002 are eligible to apply for alternative trade adjustment assistance under Section 246 of the Trade Act of 1974.”

TA-W-54,009; Oxford Drapery, Inc., Timmonsville, SC: January 12, 2003.

TA-W-53,969; Flint River Textiles, Inc., Albany, GA: January 7, 2003.

TA-W-54,048 & A & B; West Point Stevens, Dunson Facility, Bed Products Div., LaGrange, GA and Lanier Facility, Bed Products Div., Valley, AL and Dixie Facility, Bath Products Div., LaGrange, GA: January 15, 2003.

TA-W-53,960; Waukesha Kramer, Inc., Milwaukee, WI: January 7, 2003.

TA-W-53,971; Bailey Manufacturing Corp., S.J. Bailey & Sons, Inc., Fryeburg, ME: December 22, 2002.

TA-W-53,528; Textron Fastening Systems, Ferndale Fastener Div., Madison Heights, MI: November 11, 2002.

TA-W-53,987; Air Products and Chemicals, Inc., including leased workers of Shaw Maintenance, Inc., Pace, FL: January 12, 2003.

TA-W-53,967; Osram Sylvania, Inc., Materials Div., Warren, PA: December 30, 2002.

TA-W-54,126; American Fast Print Ltd, U.S. Finishing Div., a subsidiary of Atlantex Ltd, Greenville, SC: January 28, 2003.

TA-W-53,968; FMC Corp., Active Oxidants Div., Tonawanda, NY: December 22, 2002.

TA-W-53,966; Wellington Leisure Products, Leesville Synthetic Fibers, Leesville, SC: December 31, 2002.

TA-W-53,982; Bassett Furniture Industries, Inc., Upholstery Div.-Hiddenite, Hiddenite, NC: January 8, 2003.

TA-W-53,854; Warnaco Group, Inc., Milford, CT and Stratford, CT: December 18, 2002.

TA-W-53,878 & A; NVF Co., Yorklyn, DE and Kennett Square, PA: December 16, 2002.

TA-W-54,188; Ispat Inland, Inc., Sales and Marketing Department, Chicago, IL: February 3, 2003.

TA-W-53,744 & A, B; Lands' End, Inc., a subsidiary of Sears, Roebuck and Co., Dodgeville Facility, Dodgeville, WI, Elkader Facility, Elkader, IA and West Union Facility, West Union, IA: November 25, 2002.

TA-W-53,870; Hoffman-La Roche, Inc., Chemical Operations Department, Nutley, NJ: December 22, 2002.

TA-W-53,793; Keeler Brass Co., including leased workers of Talent Tree, Inc., Grand Rapids, MI: December 2, 2002.

TA-W-53,863; Meadow River Enterprises, Metal Fabrication Div., Lewisburg, WV: December 15, 2002.

TA-W-53,827; Bridgestone/Firestone Off-Road Tires, Bloomington, IL: September 11, 2003.

TA-W-53,906 & A; Dixie Chips, Inc., Evergreen, AL and Brundidge, AL: December 29, 2002.

TA-W-53,884; S.J. Bailey and Sons, Inc., Carbondale Plant, Carbondale, PA: December 17, 2002.

TA-W-53,915; First Source Furniture Group, Regional Support Center, a subsidiary of Haworth, Inc., Nashville, TN: December 26, 2002.

TA-W-54,030; Interstate Industries of Mississippi, LLC, Kosciusko, MS: January 15, 2003.

TA-W-54,124; J.A. Dedouch Co., Ok Park, IL: January 28, 2008.

TA-W-54,044; Temple Inland Forest Products Corp., Building Products Div., Temple Clarion MDF Plant, Shippenville, PA: February 9, 2004.

TA-W-53,983 & A; Archibald Candy Co., West Jackson Plant, Chicago, IL and Midway Distribution Center, Chicago, IL: January 8, 2003.

TA-W-53,958; Motorola Operations Building, San Jose, CA: October 6, 2002.

TA-W-53,919 & A; Senco Products, Inc., (8485 Broadwell Rd), Cincinnati, OH and (8450 Broadwell Rd), Cincinnati, OH: February 5, 2004.

TA-W-54,063; Texas Instruments, Inc., Make-Leadframe Div., Attleboro, MA: January 16, 2003.

TA-W-54,184 & A; Tropical Sportswear International Corp., Cutting Facility, Tampa, FL and Distribution Center, Tampa, FL: January 15, 2003.

TA-W-54,015; Sanmina-SCI Corp., Personal and Business Computing, Plant 474, including leased workers of Manpower, Durham, NC and Plant 475, including leased workers of Manpower, Durham, NC: January 14, 2003.

TA-W-54,054; Lincoln County Manufacturing, Inc., Fayetteville, TN: January 14, 2003.

TA-W-54,218; Phelps Dodge Industries, Inc., Phelps Dodge Magnet Wire Div., El Paso, TX: February 6, 2003.

TA-W-53,957; H. Warshow & Sons, Inc., Tappahannock, VA: January 5, 2003.

TA-W-54,067; Eaton Corp., Powertrain Controls Div., Marshall, MI: January 20, 2003.

TA-W-54,046; Best Manufacturing Group, LLC, Estill, SC: January 15, 2003.

TA-W-53,766; Network Elements, Manufacturing Div., Beaverton, OR: December 9, 2002.

TA-W-53,868; Signage, Inc., Centerville, TN: December 19, 2002.

TA-W-53,981; Marine Accessories Corp., Westland Industries, Tempe, AZ: January 6, 2003.

TA-W-53,975; Weavexx Corp., Farmville Facility, a wholly owned subsidiary of Xerium s.A., Farmville, VA: December 19, 2002.

TA-W-54,036; PolyOne Corp., Engineered Films, Burlington, NJ: January 13, 2003.

I hereby certify that the aforementioned determinations were issued during the months of January and February 2004. Copies of these determinations are available for inspection in Room C-5311, U.S. Department of Labor, 200 Constitution Avenue, NW., Washington, DC 20210 during normal business hours or will be mailed to persons who write to the above address.

Dated: March 2, 2004.
Timothy Sullivan,
Director, Division of Trade Adjustment Assistance.

[FR Doc. 04-5615 Filed 3-11-04; 8:45 am]

BILLING CODE 4510-30-P